DEPARTMENT OF COMMERCE

Foreign-Trade Zones Board

[Order No. 1688]

Expansion of Foreign-Trade Zone 89 Las Vegas, NV

Pursuant to its authority under the Foreign-Trade Zones Act of June 18, 1934, as amended (19 U.S.C. 81a-81u), the Foreign-Trade Zones Board (the Board) adopts the following Order:

Whereas, the Nevada Development Authority, grantee of Foreign-Trade Zone 89, submitted an application to the Board for authority to expand FTZ 89 to include a site in the City of North Las Vegas, Nevada, within the Las Vegas Customs and Border Protection port of entry (FTZ Docket 48-2009, filed 11/09/09);

Whereas, notice inviting public comment has been given in the Federal Register (74 FR 59131-59132, 11/17/09) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 89 is approved, subject to the FTZ Act and the Board's regulations, including Section 400.28, and to the Board's standard 2,000-acre activation limit for the overall general-purpose zone project, and further subject to a sunset provision that would terminate authority on June 30, 2017 for Site 9 where no activity has occurred under FTZ procedures before that date.

Signed at Washington, DC, this 22nd day of June 2010.
Paul Piquado,
Acting Deputy Assistant Secretary for Import Administration, Alternate Chairman, Foreign-Trade Zones Board.

ATTEST:

Elizabeth Whiteman,

Acting Executive Secretary.

[FR Doc. 2010-16356 Filed 7-2-10; 8:45 am]

BILLING CODE 3510-DS-P